DEPARTMENT OF HEALTH AND HUMAN SERVICES

Centers for Disease Control and Prevention

[60 Day-11-11AT]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed project or to obtain a copy of the data collection plans and instruments, call the CDC Reports Clearance Officer at 404-639-5960 or send comments to CDC Assistant Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Hospital Care Survey (NHCS)—New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes data collection from hospital inpatient departments; hospital ambulatory departments including emergency departments (ED), outpatient departments (OPD), and ambulatory surgery centers (ASC); and freestanding ASCs of the new National Hospital Care Survey.

The National Center for Health Statistics' (NCHS) surveys on hospital care include the National Hospital Discharge Survey (NHDS) (OMB No.0920-0212) and the National Hospital Ambulatory Medical Care Survey (NHAMCS) (OMB No. 0920-0234). NHDS has, since 1965, provided critical information on the utilization of the nation's non-Federal short-stay hospitals and on the nature and treatment of illness among the inpatient hospitalized population. NHAMCS has provided data annually since 1992 concerning the nation's use of hospital emergency and outpatient departments, and since 2009 and 2010, on hospital based and free-standing ambulatory surgery centers, respectively. These data have been extensively used for monitoring changes and analyzing the types of care provided in the nation's hospitals. NCHS is planning to integrate the data collected from these two hospital surveys and freestanding ASCs into one survey, called the National Hospital Care Survey (NHCS). This integration will increase the wealth and depth of data on health care utilization and allow for linkages to other data sources such as the National Death Index and data from Centers for Medicare and Medicaid Services (CMS).

A new sample of 500 hospitals drawn for the NHCS will be recruited. Annual data collection will begin by collecting the electronic Uniform Bills (UB-04s) on inpatients, along with facility level data, from recruited hospitals for the year 2011 onward. A pretest of a survey supplement on acute coronary syndrome sponsored by the National Heart, Lung, and Blood Institute will also be fielded in 2011. Then, starting in 2013, the sampled hospitals will be asked to provide data on the utilization of health care provided in their emergency and outpatient departments (ED and OPD) and ambulatory surgery centers (ASCs), thus integrating the NHDS and NHAMCS into NHCS. A new sample for freestanding ASCs will also be recruited in 2013. NHCS will replace NHDS and NHAMCS but continue to provide nationally representative data on utilization of hospital care and general purpose health-care statistics on inpatient care as well as care delivered in EDs, OPDs, and ASCs.

Patient level, discharge/visit level, and facility level data items will be collected from the recruited hospitals and freestanding ASCs in the NHCS. Patient level data items will include basic demographic information, personal identifiers, name, address, social security number (if available), and medical record number (if available). Discharge/visit level data will include admission and discharge dates, reason(s) for visit, diagnoses, diagnostic services, surgical and non-surgical procedures, medications, and disposition. Facility level data items will include demographic information, clinical capabilities, and financial information.

The pretest of the supplement on acute coronary syndrome will be conducted in a convenience sample of 32 hospitals and discharges will be identified from the UB-04 codes for a diagnosis of acute myocardial infarction.

Users of the former NHDS and NHAMCS data include, but are not limited to CDC, Congressional Research Office, Office of the Assistant Secretary for Planning and Evaluation (ASPE), American Health Care Association, Centers for Medicare & Medicaid Services (CMS), Bureau of the Census, state and local governments, and nonprofit organizations. Data collected through NHDS and NHAMCS are essential for evaluating health status of the population, for the planning of programs and policy to elevate the health status of the Nation, for studying morbidity trends, and for research activities in the health field. NHDS and NHAMCS data have been used extensively in the development and monitoring of goals for the Year 2000 and 2010 Healthy People Objectives. Other users of these data include universities, research organizations, many in the private sector, foundations, and a variety of users in the print media. There is no cost to respondents other than their time to participate.

Estimated Annualized Burden Hours
Respondents | Form | Number of responding hospitals | Number of responses per respondent | Avg. burden per response (in hours) | Total burden hours
HOSPITAL INPATIENT COMPONENT
Hospital CEO/CFO | Survey presentation to hospital | 167 | 1 | 1 | 167
Director of health information management (DHIM) or health information technology (DHIT) | Induction (including initial facility questionnaire) | 167 | 1 | 4 | 668
DHIM or DHIT | Post induction annual facility questionnaire | 333 | 1 | 2 | 666
DHIM or DHIT | Prepare and transmit UB-04 (2011-2013) | 500 | 4 | 1 | 2,000
AMBULATORY COMPONENT
Ancillary Service Executive | Freestanding ASC Induction | 67 | 1 | 1.5 | 101
Ancillary Service Executive | Ambulatory Unit Induction | 613 | 1 | 1 | 613
Physician/Registered Nurse/Medical Record Clerk | ED Patient Record form | 78 | 100 | 7/60 | 910
Physician/Registered Nurse/Medical Record Clerk | OPD Patient Record form | 44 | 200 | 9/60 | 1,320
Physician/Registered Nurse/Medical Record Clerk | ASC Patient Record Form | 79 | 100 | 6/60 | 790
Medical Record Clerk | Pulling and re-filing Patient Records (ED, OPD, and ASC) | 151 | 133 | 1/60 | 335
ACUTE CORONARY SYNDROME PRETEST
Hospital CEO/CFO | Presentation at hospital | 11 | 1 | 1 | 11
DHIM or DHIT | Pulling medical records for abstraction | 11 | 3 | 15/60 | 8
Total |  |  |  |  | 7,589

Dated: November 18, 2010.
Carol E. Walker,
Acting Reports Clearance Officer, Centers for Disease Control and Prevention.

[FR Doc. 2010-29581 Filed 11-23-10; 8:45 am]

BILLING CODE 4163-18-P